DEPARTMENT OF DEFENSE

Department of the Army; Corps of Engineers

Intent to Prepare an Environmental Impact Statement for the Chesapeake Bay Oyster Recovery Project, Virginia and Maryland

AGENCY: Department of the Army, U.S. Army Corps of Engineers, DOD.

ACTION: Notice of intent.

SUMMARY: The U.S. Army Corps of Engineers (Corps), Baltimore (NAB) issued a notice of intent (NOI) for the Chesapeake Bay Native Oyster Recovery Project in the Friday, November 26, 2004 issue of the Federal Register (69 FR 68887). That NOI indicated that NAB would prepare a draft environmental impact statement (DEIS) for native oyster (Crassostrea virginica) recovery activities within Maryland waters of the Chesapeake Bay.

The Corps is announcing a major change in the scope of the project. The NAB and Norfolk (NAO) Districts will prepare a single, integrated master plan (MP) and programmatic environmental impact statement (PEIS) for native oyster recovery in the entire Chesapeake Bay. This MP is a long-term plan for native oyster recovery and will be written in cooperation with the local sponsors, the Maryland Department of Natural Resources and Virginia Marine Resources Commission. The Corps is undertaking native oyster recovery in the Chesapeake Bay to support efforts to reverse the ongoing decline in oyster resources throughout the Bay.

FOR FURTHER INFORMATION CONTACT: Questions and comments about the MP and/or PEIS can be addressed to Mr. Craig Seltzer, Norfolk District, U.S. Army Corps of Engineers, ATTN: CENAO-PM-PA, 803 Front Street, Norfolk, VA 23510. E-mail address: Craig.L.Seltzer@usace.army.mil or Ms. Erika Mark, Baltimore District, U.S. Army Corps of Engineers, ATTN: CENAB-PL-P, P.O, Box 1715, Baltimore, MD 21203. E-mail address: Erika.L.Mark@usace.army.mil. Please include your name and address in your message.

SUPPLEMENTARY INFORMATION: The MP/EIS will incorporate science, policy, and experience from a number of sources to develop a comprehensive approach to oyster restoration in Maryland and Virginia. The purpose of the MP is to lay out a road map for a long-term, large-scale restoration of native oysters in the Maryland and Virginia waters of the Chesapeake Bay. All suitable locations and techniques available for native oyster restoration will be identified and explored, and, if restoration is feasible, will be included in the MP.

Previously performed oyster restoration activities by NAB include the: Creation of new oyster bars and rehabilitation of existing non-productive bars; construction of see bars for production and collection of seed oysters or “spat”; planting of hatchery-produced and seed bar spat on new and rehabilitated bars; and monitoring of implemented projects. Previously performed oyster restoration activities by NAO include: Construction of permanent oyster reef sanctuaries; seeding of reefs with disease resistant DEBY™ strain oysters; adaptive management and monitoring; and managed spat-on-shell production areas with oysters moved to other sites in the Bay as part of a genetic rehabilitation stocking effort. This work is being conducted under the authority provided by Section 704(b) of the Water Resources Development Act (WRDA) of 1986, as amended.

Scoping: The Corps will conduct a public scoping meeting in Virginia this spring to supplement the scoping meetings previously held in Maryland, and will include interested parties throughout the development of the EIS through informational meetings and website postings and other means. All interested federal, state, and local agencies, interested private and public organizations, affected Indian tribes, and individuals are invited to attend the scoping meeting.

Other Environmental Review and Consultation Requirements: To the fullest extent possible, the EIS will be integrated with analyses and consultation required by the Fish and Wildlife Coordination Act of 1958, as amended; the National Historic Preservation Act of 1966, as amended; the Coastal Zone Management Act of 1972, as amended; the Endangered Species Act of 1973, as amended; the Marine Protection, Research and Sanctuaries Act of 1972, as amended; and the Clean Water Act of 1977, as amended.

Schedule: The anticipated date of publication of the draft PEIS is March 2007. The PEIS will be prepared in accordance with (1) the National Environmental Policy Act (NEPA) of 1969, as amended (42 U.S.C. 4321 et seq.), (2) regulations of the Council on Environmental Quality for implementing the procedural provisions of NEPA (40 CFR parts 1500-1508), and (3) USACE regulations implementing NEPA (ER-200-2).

Claire O'Neill,
Project Manager.

[FR Doc. 06-2863 Filed 3-23-06; 8:45 am]

BILLING CODE 3710-41-M